DEPARTMENT OF COMMERCE

Census Bureau

Proposed Information Collection; Comment Request; 2010-2012 American Community Survey Methods Panel Testing

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before August 4, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Susan Schechter, U.S. Census Bureau, American Community Survey Office, Washington, DC 20233, by FAX to (301) 763-8620 or e-mail at susan.schechter.bortner@census.gov.

SUPPLEMENTARY INFORMATION:

I. Abstract

Given the rapid demographic changes experienced in recent years and the strong expectation that such changes will continue and accelerate, the once-a-decade data collection approach of a census is no longer acceptable as a source for the housing and socio-economic data collected on the census long form. To meet the needs and expectations of the country, the Census Bureau developed the American Community Survey (ACS). This survey collects detailed socioeconomic data every month and provides tabulations of these data on a yearly basis. The ACS allows the Census Bureau to provide more timely and relevant housing and socio-economic data while also reducing operational risks in the census by eliminating the long form historically given to one in every six addresses.

Full implementation of the ACS includes an annual sample of approximately three million residential addresses a year in the 50 States and the District of Columbia, and another 36,000 addresses in Puerto Rico. A sample this large allows for annual production and release of single-year estimates for areas with a population of 65,000 or more. Lower levels of geography require aggregates of three and five years' worth of data in order to produce estimates of comparable quality to the census long form. An ongoing data collection effort with an annual sample of this magnitude requires that the ACS continue research, testing and evaluations aimed at improving overall ACS data quality, achieving survey cost efficiencies, and developing and improving ACS questionnaire content and related data collection materials. The ACS Methods Panel during the 2010-2012 period may include testing methods for increasing survey and operational efficiencies; alternative methods or procedures may be developed and evaluated that could potentially reduce the overall survey cost, lessen respondent burden, and improve response rates. At this time, specific plans are in place to propose three methods panel tests: a content reinterview study, 2010 ACS Content Test, and an Internet Test. Since the ACS Methods Panel is designed to address emerging issues, we may conduct additional testing as needed. Testing would focus on methods for reducing data collection costs or testing new questions that have an urgent need to be included on the ACS.

During the decennial census year, a content reinterview study (CRS) was conducted in conjunction with the long form, which the ACS now replaces. The decennial CRS was an evaluation of the quality of the data collected in the census, focusing on response bias and simple response variance (reliability). The Census Bureau proposes to design and implement a continuous CRS to look at the current ACS production questions on an ongoing basis. This will allow for the identification of problems with reliability. Results from the CRS will provide data users with concrete data quality measures (such as reliability or bias measures) for each ACS item.

The ACS CRS will allow the Census Bureau to continuously monitor the data quality of the ACS and identify questions that are currently unreliable or that may become unreliable due to changes in the survey climate (e.g., changes in policy that change the definition of what the ACS is trying to measure). The results from the CRS, generated on a yearly basis, would identify which questions require modifications and future testing via a content test, thus providing a more scientific approach to determining the need for content testing of current ACS items. The CRS will be conducted by telephone only with a small sample of cases that responded during production.

Second, in response to Federal agencies' requests for new and revised ACS questions, the Census Bureau plans to conduct the 2010 ACS Content Test. Changes to the current ACS content and the addition of new content were identified through the Office of Management and Budget (OMB) Interagency Committee for the ACS and through recent or anticipated legislative action. The primary objective of the ACS 2010 Content Test is to test whether changes to question wording, response categories, and redefinition of underlying constructs improve the quality of data collected. The Census Bureau proposes to evaluate changes to the questions by comparing the revised questions to the current ACS questions, or for new questions, to compare the performance of question versions to each other as well as to other well-known sources of such information. The proposed topics for content testing are new questions to measure computer and Internet access and usage, as well as parental place of birth and revisions to veteran's identification and period of service, cash public assistance, wages income and property income, and the Food Stamps program name.

A third test, the ACS Internet Test, is planned to determine the best methods for informing sample households about an ACS Internet response option and encouraging them to respond. By offering an Internet response option in the ACS, the Census Bureau is taking further steps to comply with the e-gov initiative and potentially reduce data collection costs. The objectives of the Internet Test include: potential improvement in self-response rates; potential cost savings if we can change the distribution of responses by mode (i.e., obtain more responses by Internet); and potential improvement in data quality including a potential reduction in item nonresponse.

II. Method of Collection

Continuous ACS CRS—Cases that responded to production ACS from all three ACS response modes (mail, telephone, and personal visit) will be included. Reinterview modules containing a subset of the questions will be created so that the entire ACS questionnaire can be tested over several months. Each question set or module of the CRS will require multiple data collection months to provide enough sample for analysis purposes. Reinterviews will be conducted within 2 to 4 weeks of the original data collection. It is important that the reinterview is close enough timing-wise to the original data collection to minimize the possibility of changes in what is being measured, but far enough away so respondents do not exactly remember previous responses.

2010 Content Test—The field test portion of the ACS content test will be largely based on the data collection methods currently used in the production ACS. Sampled addresses will be mailed a pre-notice letter, a self-administered paper questionnaire, and a reminder postcard. Households that do not return their initial questionnaire in a timely manner will also be mailed a replacement questionnaire. For households that do not return their mailed questionnaire, we will attempt to collect their data through Computer Assisted Telephone Interviewing or Computer Assisted Personal Interviewing.

There will also be a Content Follow-up reinterview as part of the content test. That is, we will attempt a follow-up CATI reinterview with all households that responded in the field test and for whom we have a telephone number. This reinterview will focus on the particular questions that we are evaluating in the field test, and will not include every question asked in the original interview.

Internet Test—Currently, the ACS and the Puerto Rico Community Survey (PRCS) collect data using three modes: mailout/mailback of a paper questionnaire, telephone, and personal visit. In the proposed test we will offer a fourth response mode—an Internet self-response option—to respondents in the ACS and the PRCS during the mail data collection phase.

Different strategies will be used to inform respondents of the Internet response option. In all strategies, the URL for the secure ACS Internet site and instructions for completing the survey online will be provided to respondents by mail.

The Census Bureau plans to design four versions of the ACS Internet instrument—an English version and a Spanish version for both the ACS and the PRCS. Households that do not respond by mail or Internet will be contacted for a telephone interview, similar to ACS production, since a voice message could encourage a household to respond by mail or Internet. This test will not include a personal visit operation like ACS production.

III. Data

OMB Control Number: 0607-0936.

Form Number: ACS-1, ACS1(SP), ACS-1(PR), ACS-1(PR)SP, ACS CATI(HU), and ACS RI(HU).

Type of Review: Regular submission.

Affected Public: Individuals and households.

Estimated Number of Respondents: We plan to contact the following number of respondents: Content Reinterview Study, 71,520 responding addresses per year; 2010 Content Test, 70,000 residential addresses during the field test and 40,000 responding addresses during the content follow-up conducted by telephone; Internet Test, 90,000 residential addresses. Other potential content test: 70,000 residential addresses during the field test and 40,000 responding addresses during the content follow-up conducted by telephone. Other potential test of new methods: 30,000 residential addresses.

Estimated Time per Response: Estimates are: Content Test field test, 38 minutes, content test follow-up, 15 minutes; Internet Test, 38 minutes; Content Reinterview Study, 15 minutes; other potential test of new methods, 38 minutes.

Estimated Total Annual Burden Hours: 67,515.

Estimated Total Annual Cost: Except for their time, there is no cost to respondents.

Respondent Obligation: Mandatory.

Legal Authority: Title 13 U.S.C. Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 2, 2009.
Glenna Mickelson,
Management Analyst, Office of the Chief Information Officer.

[FR Doc. E9-13130 Filed 6-4-09; 8:45 am]

BILLING CODE 3510-07-P